DEPARTMENT OF HOMELAND SECURITY

Coast Guard

33 CFR Part 165

[Docket No. USCG-2008-1096]

Safety Zones: Fireworks Displays in the Captain of the Port Columbia River Zone

AGENCY: Coast Guard, DHS.

ACTION: Notice of enforcement of regulation.

SUMMARY: The Coast Guard will enforce the safety zones in 33 CFR 165.1315 for fireworks displays in the Captain of the Port Zone from May through September 2011. This action is necessary to ensure the safety of the crews onboard the vessels involved in the fireworks displays, the maritime public, and all observers. During the enforcement period for each specific safety zone, no person or vessel may enter or remain in the safety zone without permission of the Captain of the Port, Columbia River or his designated representative.

DATES: The regulations in 33 CFR 165.1315 will be enforced as follows:

(1) Portland Rose Festival Fireworks Display, Portland, OR: From 8:30 p.m. until 11:30 p.m. on May 27, 2011.

(2) Tri-City Chamber of Commerce Fireworks Display, Columbia Park, Kennewick, WA: From 8:30 p.m. until 11:30 p.m. on July 4, 2011.

(3) Cedco Inc. Fireworks Display, North Bend, OR: From 8:30 p.m. until 11:30 p.m. on July 3, 2011.

(4) Astoria 4th of July Fireworks, Astoria, OR: From 8:30 p.m. until 11:30 p.m. on July 4, 2011.

(5) Oregon Food Bank Blues Festival Fireworks, Portland, OR: From 8:30 p.m. until 11:30 p.m. on July 4, 2011.

(6) Florence Chamber 4th of July Fireworks Display, Florence, OR: On July 4, 2011 from 9 p.m. to 11 p.m.

(7) Oaks Park July 4th Celebration, Portland, OR: On July 4, 2011 from 9 p.m. to 11 p.m.

(8) Rainier Days Fireworks Celebration, Rainier, OR: On July 9, 2011 from 9 p.m. to 11 p.m.

(9) Ilwaco July 4th Committee Fireworks, Ilwaco, WA: On July 2, 2011 from 9 p.m. to 11 p.m.

(10) Milwaukie Centennial Fireworks Display, Milwaukie, OR: On July 23, 2011 from 9 p.m. to 11 p.m.

(11) Splash Aberdeen Waterfront Festival, Aberdeen, WA: On July 4, 2011 from 9 p.m. to 11 p.m.

(12) Arlington Chamber of Commerce Fireworks Display, Arlington, OR: On July 4, 2011 from 8:30 p.m. to approximately 11:30 p.m.

(13) East County 4th of July Fireworks, Gresham, OR: On July 4, 2011 from 8:30 p.m. to approximately 11:30 p.m.

(14) Port of Cascade Locks July 5th Fireworks Display, Cascade Locks, OR: On July 4, 2011 from 8:30 p.m. to approximately 11:30 p.m.

(15) Astoria Regatta Association Fireworks Display, Astoria, OR: On August 13, 2011 from 8:30 p.m. to approximately 11:30 p.m.

(16) City of Washougal July 4th Fireworks Display, Washougal, WA: On July 4, 2011 from 8:30 p.m. to approximately 11:30 p.m.

(17) City of St. Helens 4th of July Fireworks Display, St. Helens, OR: On July 4, 2011 from approximately 8:30 p.m. to approximately 11:30 p.m.

(18) Waverly Country Club 4th of July Fireworks Display, Milwaukie, OR: On July 4, 2011 from 8:30 p.m. to approximately 11:30 p.m.

(19) Hood River 4th of July, Hood River, OR: On July 4, 2011 from 8:30 p.m. to approximately 11:30 p.m.

(20) Rufus 4th of July Fireworks, Rufus, OR: On July 2, 2011 from 8:30 p.m. to approximately 11:30 p.m.

FOR FURTHER INFORMATION CONTACT: If you have questions on this notice, call or e-mail MST1 Jaime Sayers, Waterways Management Division, MSU Portland, Coast Guard; telephone 503-240-9327, e-mail Jaime.a.Sayers@uscg.mil.

SUPPLEMENTARY INFORMATION:

The Coast Guard will enforce the safety zone regulation in 33 CFR 165.1315 for fireworks displays in the Columbia River Captain of the Port Zone during the dates and times listed in DATES.

Under the provisions of 33 CFR 165.1315 and 33 CFR 165 Subparts C, no person or vessel may enter or remain in the safety zones without permission of the Captain of the Port, Columbia River or his designated representative. See 33 CFR 165.1315 and 33 CFR 165 subparts C for additional information and prohibitions. Persons or vessels wishing to enter the safety zones may request permission to do so from the on-scene Captain of the Port representative via VHF Channel 16 or 13. The Coast Guard may be assisted by other Federal, State, or local enforcement agencies in enforcing this regulation.

This notice is issued under authority of 33 CFR 165.1315 and 5 U.S.C. 552(a). In addition to this notice in the Federal Register, the Coast Guard will provide the maritime community with notification of this enforcement period via the Local Notice to Mariners.

Dated: June 3, 2011.
D.E. Kaup,
Captain, U.S. Coast Guard Captain of the Port, Columbia River.

[FR Doc. 2011-14832 Filed 6-14-11; 8:45 am]

BILLING CODE 9110-04-P